DEPARTMENT OF JUSTICE

Notice of Lodging of Consent Decree Under the Comprehensive Environmental Response, Compensation and Liability Act

Notice is hereby given that on September 6, 2006, a proposed Consent Decree (Decree) in United States v. John J. McKenna, Jr., Civil Action No. 98-CV-5162 was lodged with the United States District Court for the Eastern District of Pennsylvania.

In this action the United States sought from defendant McKenna recovery of $88,000 in response costs incurred by the U.S. Environmental Protection Agency performing studies of contamination at Royal Cleaners property within the North Penn 6 Superfund Site in Lansdale, Montgomery County, Pennsylvania. Defendant McKenna previously spent $150,000 performing cleanup at the Royal Cleaners property under EPA's direction. In this settlement, he will pay an additional $40,000 to defray part of EPA's past costs. He receives from the United States a covenant not to sue under Sections 106 and 107(a) of the Comprehensive Environmental Response, Compensation, and Liability Act with respect to the Site.

The Department of Justice will receive for a period of thirty (30) days from the date of this publication comments relating to the Decree. Comments should be addressed to the Assistant Attorney General, Environment and Natural Resources Division, P.O. Box 7611, U.S. Department of Justice, Washington, DC 20044-7611, and should refer to United States v. John J. McKenna (E.D.Pa.), D.J. Ref. 90-11-2-06024/2.

The Decree may be examined at the Office of the United States Attorney, Eastern District of Pennsylvania, 615 Chestnut Street, Suite 1250, Philadelphia, PA 19106, and at U.S. EPA Region III, 150 Arch Street, Philadelphia, PA 19103. During the public comment period, the Decree, may also be examined on the following Department of Justice Web site: http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury or, if by e-mail or fax, forward a check in that amount to the Consent Decree Library at the stated address.

Robert Brook,
Assistant Chief, Environmental Enforcement Section, Environment and Natural Resources Division.

[FR Doc. 06-9128 Filed 11-8-06; 8:45 am]

BILLING CODE 4410-15-M